DEPARTMENT OF THE TREASURY

United States Mint

Amended Notification of Citizens Coinage Advisory Committee March 15, 2016, Public Meeting

ACTION: Notice.

SUMMARY: Notice is hereby given of a change in the meeting time and the addition of an agenda item for the public meeting of the Citizens Coinage Advisory Committee (CCAC) on March 15, 2016, which was published in the Federal Register on March 9, 2016.

Date: March 15, 2016

Time: 9:30 a.m. to 3:30 p.m.

Location: Conference Room A, United States Mint, 801 9th Street NW., Washington, DC 20220.

Subject: Review and discussion of candidate designs for the 2017 Boys Town Centennial Commemorative Coin Program; review of a proposed design for the 2017 American Eagle Platinum Proof Coin (20th Anniversary); review and discussion of candidate designs for the 2017 American Liberty High Relief Gold Coin and Silver Medal; and a discussion of themes for a proposed series of bronze national medals to accompany the 2017 World War I Commemorative Coin Program.

Interested persons should call the CCAC HOTLINE at (202) 354-7502 for the latest update on meeting time and room location.

In accordance with 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: March 9, 2016.
Richard A. Peterson,
Deputy Director for Manufacturing and Quality, United States Mint.

[FR Doc. 2016-05738 Filed 3-14-16; 8:45 am]

BILLING CODE P